DEPARTMENT OF JUSTICE

Notice of Lodging of Consent Decree in re Kaiser Aluminum Corporation Under the Comprehensive Environmental Response, Compensation and Liability Act (CERCLA)

Notice is hereby given that on June 30, 2005, a proposed Consent Decree was lodged with the United States Bankruptcy Court for the District of Delaware in In re Kaiser Aluminum Corp., et al., No. 02-10429. The Consent Decree among the United States on behalf of the Environmental Protection Agency, the State of Washington, and Debtor Kaiser Aluminum Corporation and certain of its Debtor affiliates, including Kaiser Aluminum & Chemical Corporation, resolves CERCLA claims relating to the Mica Landfill site in Spokane County, Washington. Under the Consent Decree, the United States' claim in relation to the Site would be allowed in the amount of $68,292 in the bankruptcy.

The Department of Justice will receive comments relating to the Consent Decree for a period of thirty (30) days from the date of this publication. Comments should be addressed to the Assistant Attorney General, Environment and Natural Resources Division, PO Box 7611, U.S. Department of Justice, Washington, DC 20044-7611, and should refer to In re Kaiser Aluminum Corporation, et al., DJ Ref. No. 90-11-3-07769/1. Commenters may request an opportunity for a public meeting in the affected area, in accordance with section 7003(d) of RCRA, 42 U.S.C. 6973(d).

The Consent Decree may be examined at the Office of the United States Attorney for the District of Delaware, 1007 Orange Street, Suite 700, PO Box 2046, Wilmington, DE 19899-2046, and at the Regional 10 Office of the United States Environmental Protection Agency, 1200 Sixth Ave., Seattle, WA 98101. During the public comment period, the Consent Decree may also be examined on the following Department of Justice Web site, http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $26.00 (25 cents per page production cost) payable to the U.S. Treasury for the entire Consent Decree and attachments or the amount of $9.75 for the Consent Decree without attachments.

W. Benjamin Fisherow,
Deputy Section Chief, Environmental Enforcement Section, Environment and Natural Resources Division.

[FR Doc. 05-13836 Filed 7-13-05; 8:45 am]

BILLING CODE 4410-15-M